NUCLEAR REGULATORY COMMISSION

[Docket No. 72-30]

Maine Yankee Atomic Power Company, Maine Yankee Independent Spent Fuel Storage Installation, Issuance of Environmental Assessment and Finding of No Significant Impact

I. Introduction

The U.S. Nuclear Regulatory Commission (NRC) is considering issuance of exemptions to Maine Yankee Atomic Power Company (the licensee), pursuant to title 10 of the Code of Federal Regulations (10 CFR) 72.7, from specific provisions of 10 CFR 72.212(a)(2), 72.212(b)(2)(i), 72.212(b)(7), and 72.214. The licensee is storing spent nuclear fuel under the general licensing provisions of 10 CFR part 72 in the NAC-UMS® Universal Storage System at an independent spent fuel storage installation (ISFSI) located at the Maine Yankee Atomic Power Station in Wiscasset, Maine. The requested exemptions would allow the licensee to deviate from requirements of the NAC-UMS® Certificate of Compliance (CoC) No. 1015, Amendment 2, Appendix A, Technical Specifications for the NAC-UMS® System, Section A 5.1, Training Program, and Section A 5.5, Radioactive Effluent Control Program. Specifically, the exemptions would relieve the licensee from the requirements to: (1) Develop training modules under its systematic approach to training (SAT) that include comprehensive instructions for the operation and maintenance of the ISFSI, except for the NAC-UMS® Universal Storage System; and (2) submit an annual report pursuant to 10 CFR 72.44(d)(3).

II. Environmental Assessment (EA)

Identification of Proposed Action: The proposed action is to exempt the licensee from regulatory requirements to develop certain training and submit an annual report. By letter dated February 25, 2004, as supplemented June 8, 2004, the licensee requested exemptions from certain regulatory requirements of 10 CFR 72.212(a)(2), 72.212(b)(2)(i), 72.212(b)(7), and 72.214 which require a general licensee to store spent fuel in an NRC-certified spent fuel storage cask under the terms and conditions set forth in the CoC. The proposed exemptions would allow the licensee to deviate from the requirements in CoC No. 1015, Amendment 2, Appendix A, Technical Specifications for the NAC-UMS® System, Section A 5.1, Training Program, and Section A 5.5, Radioactive Effluent Control Program.

CoC No. 1015, Amendment 2, Appendix A, Technical Specifications for the NAC-UMS System, Section A 5.1, Training Program, requires that a training program for the NAC-UMS® Universal Storage System be developed under the general licensee's SAT. Further, the training modules must include comprehensive instructions for the operation and maintenance of both the NAC-UMS® Universal Storage System and the ISFSI. In addition, CoC No. 1015, Amendment 2, Appendix A, Technical Specifications for the NAC-UMS System, Section A 5.5, Radioactive Effluent Control Program, Item c. requires an annual report to be submitted pursuant to 10 CFR 72.44(d)(3). By exempting the licensee from the requirements of 10 CFR 72.212(a), 72.212(b)(2)(i), 72.212(b)(7), and 72.214 for this request, the licensee will not be required to either develop training modules that include comprehensive instructions for the operation and maintenance of the ISFSI or submit an annual report pursuant to 10 CFR 72.44(d)(3).

The proposed action before the NRC is whether to grant these exemptions under the provisions of 10 CFR 72.7.

Need for the Proposed Action: The NRC has determined that the requirements of CoC No. 1015, Amendment 2, Appendix A, Technical Specifications for the NAC-UMS® System, Section A 5.1, Training Program, and Section A 5.5, Radioactive Effluent Control Program impose regulatory obligations, with associated costs, that do not provide a commensurate increase in safety. Granting the requested exemptions will allow the licensee not to have to: (1) Develop training modules under the SAT that include comprehensive instructions for the operation and maintenance of the ISFSI, except for the NAC-UMS® Universal Storage System; or (2) submit an annual report pursuant to 10 CFR 72.44(d)(3). Thus, the licensee will not incur the costs associated with these activities.

Environmental Impacts of the Proposed Action: The NRC has reviewed the exemption requests submitted by the licensee and determined that not requiring the licensee to: (1) Develop training modules under its SAT that include comprehensive instructions for the operation and maintenance of the ISFSI, except for the NAC-UMS® Universal Storage System; and (2) submit an annual report pursuant to 10 CFR 72.44(d)(3) are administrative changes, and would have no significant impacts to the environment.

Further, NRC has evaluated the impact to public safety that would result from granting the requested exemptions. NRC determined that requiring the licensee to develop training modules under its SAT for the operation and maintenance of ISFSI structures, systems, and components considered not-important-to-safety would not provide a commensurate increase in public safety associated with the costs. Therefore, allowing the licensee to develop these modules separately from its SAT does not impact public safety. Also, NRC has determined that not requiring the licensee to submit an annual report specifying principal radionuclides released to the environment in liquid and in gaseous effluents does not impact public safety because the NAC-UMS® Universal Storage System is a sealed and leak-tight spent fuel storage system. Thus, there should be no releases to the environment of either liquid or gaseous effluents from normal operation of the NAC-UMS® Universal Storage System.

The proposed action would not increase the probability or consequences of accidents, no changes would be made to the types of effluents that may be released offsite, and there would be no increase in occupational or public radiation exposure. Therefore, there are no significant radiological environmental impacts associated with the proposed action. Additionally the proposed action would have no significant non-radiological impacts.

Alternative to the Proposed Action: The alternative to the proposed action would be to deny approval of these exemptions. Denial of these exemption requests would have the same environmental impact as the proposed action.

Agencies and Persons Consulted: The NRC prepared this EA. No other sources were used. NRC, by letter dated August 10, 2004, provided a draft of this EA to the Honorable Charles Pray, State Nuclear Safety Advisor for the State of Maine for review. The State of Maine by letter dated November 15, 2004, did not indicate it had any environmental concerns related to granting the proposed exemptions. However, the State of Maine did provide the following comment:

In that, the State of Maine has no objection to the NRC granting the exemption for the current existing licensure period as long as the current outstanding statutory obligations of the United States government are met in all of its responsibility in reference to [the] MYAPC facility, and that no extensions of the current twenty-year licensure of the ISFSI is approved. Any extension granted by the NRC beyond that date will [alter] the State's approval on this and other related matters and will require a need for ongoing assessment by the State of Maine of safety benefits to the citizens of Maine beyond its original and current licensed mission. The State would be required to fully [assess] as to how best [to] protect the citizens of the State from further federal lapses of obligations.

The staff has reviewed the State of Maine's comment and determined that neither exemption is coupled with extending the period of the Maine Yankee's general license for its ISFSI beyond the twenty-year period of its use of the NAC-UMS® Universal Storage System. Certificate of Compliance No. 1015 will be eligible for renewal at the expiration of this period and, if application for reapproval is made, the State of Maine will have an opportunity to comment on such application at that time.

Further, The NRC has determined that a consultation under Section 7 of the Endangered Species Act is not required because the proposed action will not affect listed species or critical habitats. The NRC has also determined that the proposed action is not a type of activity having the potential to cause effects on historic properties. Therefore, no consultation is required under Section 106 of the National Historic Preservation Act.

Conclusions: The NRC has concluded that the proposed action of granting these exemptions and not requiring the licensee to develop certain training or submit an annual report will not significantly impact the quality of the human environment and does not warrant the preparation of an environmental impact statement. Accordingly, it has been determined that a Finding of No Significant Impact is appropriate.

III. Finding of No Significant Impact

The environmental impacts of the proposed action have been reviewed in accordance with the requirements set forth in 10 CFR part 51. Based upon the foregoing EA, the NRC finds that the proposed action of granting exemptions from the specific provisions of 10 CFR 72.212(a), 72.212(b)(2)(i), 72.212(b)(7), and 72.214 and not requiring the licensee to: (1) Develop training modules under its SAT that include comprehensive instructions for the operation and maintenance of the ISFSI, except for the NAC-UMS® Universal Storage System; and (2) submit an annual report pursuant to 10 CFR 72.44(d)(3), will not significantly impact the quality of the human environment. Accordingly, the NRC has determined that an environmental impact statement for these proposed exemptions is not warranted.

The request for exemption was docketed under 10 CFR part 72, Docket 72-30. Please note that on October 25, 2004, the NRC suspended public access to the Agencywide Documents Access and Management System (ADAMS), and initiated an additional security review of publicly available documents to ensure that potentially sensitive information is removed from the ADAMS database accessible through the NRC's Web site. Interested members of the public should check the NRC's Web pages for updates on the availability of documents through ADAMS.

When public access to ADAMS is restored the documents related to this action, including the application for the exemptions and supporting documentation, will be available electronically at the NRC's Electronic Reading Room at http://www.nrc.gov/reading-rm/adams.html. From this site you can access the NRC's ADAMS, which provides text and image files of NRC's public documents. The ADAMS accession numbers for the documents related to this notice are: For the request for exemptions dated February 25, 2004, the ADAMS accession number is ML040620577, and for the supplement dated June 8, 2004, the ADAMS accession number is ML041690143.

When public access to ADAMS is resumed and you do not have access to ADAMS or if there are problems in accessing the documents located in ADAMS, contact the NRC's Public Document Room (PDR) Reference staff at 1-800-397-4209, (301) 415-4737, or by e-mail to pdr@nrc.gov. Also, after resumption of public access to ADAMS, these documents may also be viewed electronically on the public computers located at the NRC's PDR, O1F21, One White Flint North, 11555 Rockville Pike, Rockville, MD 20852. The PDR reproduction contractor will copy documents for a fee.

Dated in Rockville, Maryland, this 13th of December, 2004.
For the Nuclear Regulatory Commission.
Stewart W. Brown,
Sr. Project Manager, Spent Fuel Project Office, Office of Nuclear Material Safety and Safeguards.

[FR Doc. 05-24 Filed 1-3-05; 8:45 am]

BILLING CODE 7590-01-P